DEPARTMENT OF LABOR

Employment and Training Administration

Proposed Information Collection; Comments: Work Opportunity Tax Credit Program and the Welfare-to-Work Tax Credit

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration (ETA) is soliciting comments on the proposed extension (without change) of the Work Opportunity Tax Credit (WOTC) Program and the Welfare-to-Work Tax Credit (WtWTC) electronic reporting forms ETA 9057-9059; administrative forms ETA 9061-9065; and the following program related documents: November 2002, Third Edition of ETA Handbook No. 408; Planning Guidance Training and Employment Guidance Letter (TEGL) for the Work Opportunity Tax Credit Program and Welfare-to-Work Tax Credit Allotments Fiscal Year (FY) 2005; and the Technical Assistance and Review Guide. This request covers the period from March 31, 2005 through June 30, 2006. A copy of the proposed Information Collection Request (ICR) can be obtained by contacting the office listed below in the addressee section of this notice.

DATES: Submit comments on or before May 31, 2005.

ADDRESSES: Send comments to: Anthony Dais, U.S. Department of Labor, Employment and Training Administration, Division of Employment Services, Office of Workforce Investment, Room S-4231, 200 Constitution Avenue, NW., Washington, DC 20210 (202-693-2784—not a toll free number), fax: 202-693-3015, and e-mail address: dais.anthony@dol.gov; or

Send comments to: Dennis I. Lieberman, U.S. Department of Labor, Employment and Training Administration, Division of Adults and Dislocated Workers, Office of Workforce Investment, Room S-4231, 200 Constitution Avenue, NW., Washington, DC 20210 (202-693-3580—not a toll free number), fax: 202-693-3587, and e-mail address: lieberman.dennis@dol.gov.

FOR FURTHER INFORMATION CONTACT: Carmen Ortiz, U.S. Department of Labor, Employment and Training Administration, Division of Employment Services, Office of Workforce Investment, Room S-4231, 200 Constitution Avenue, NW., Washington, DC 20210 (202-693-2786—not a toll free number), fax: 202-693-3015, and e-mail address: ortiz.carmen@dol.gov.

SUPPLEMENTARY INFORMATION:

I. Background

Data on the WOTC and the WtWTC Tax Credits will be collected by the state workforce agencies (SWAs) and provided to the Division of Employment Services, Office of Workforce Investment, Washington, DC, through the appropriate Department of Labor (DOL) regional offices via quarterly management reports. The data obtained from the administrative or processing forms will be used for WOTC and WtWTC national office program performance management and outcome reporting.

II. Desired Focus of Comments

Currently, ETA is soliciting comments concerning the proposed extension (without change) of the WOTC Program and the WtWTC electronic reporting forms ETA 9057-9059; administrative forms ETA 9061-9065; and the following program related documents: November 2002, Third Edition of ETA Handbook No. 408; Planning Guidance TEGL for the Work Opportunity Tax Credit Program and Welfare-to-Work Tax Credit Allotments for Fiscal Year (FY) 2004; and the Technical Assistance and Review Guide.

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond by including the use of appropriate automated, electronic, mechanical, or other technological collection techniques or other forms of information technology, e.g., permitting electronic submissions of responses.

A copy of the proposed Information Collection Request (ICR) can be obtained by contacting the office listed above in the addressee section of this notice.

III. Current Actions

This is a request for Office of Management and Budget (OMB) approval under the Paperwork Reduction Act of 1995 (PRA95) (44 U.S.C. 3506(c)(2)(A)) to extend the collection of information and use of program materials for the WOTC and WtWTC. On October 4, 2004, the President signed into law the “Working Families Tax Relief Act of 2004,” P.L. 108-311. This law reauthorized the WOTC and WtWTC, without changes, through December 31, 2005. The reauthorization is retroactive to the tax credits' expiration date of December 31, 2003. OMB authorization for the WOTC and WtWTC administrative and electronic reporting forms will expire on March 31, 2005. Further, the Government Paperwork Elimination Act (GPEA) of 1998 (Pub. L. 105-277) requires that, when feasible, Federal agencies design and implement the use of automated systems that facilitate the electronic signature and filing of forms (by participants) to conduct official business with the public by 2003. The Division of Employment Services, Office of Workforce Investment, complied with this requirement by successfully implementing an electronic reporting system for the tax credits' program and the WOTC and WtWTC quarterly reports. The automated reporting system is known as ETA's Enterprise Information Management System (EIMS) Tax Credit Reporting System (TCRS). The EIMS/TCRS is a Web-based system that allows states to meet the reporting responsibilities in a more efficient manner while reducing the reporting burden on the state, regional, and national levels. Through this system, states can manually enter or electronically upload the required quarterly data reports (ETA forms 9057, 9058 and 9059). This electronic reporting system reduced burden hours by 78 percent from 3,215,368 annual burden hours estimated for these forms in the 2002 ICR to 703,125 actual burden hours in 2004. The present ICR reflects the substantial decrease in response time for these forms.

Type of Review: Extension (without change).

Agency: employment and Training Administration.

Title: Work Opportunity Tax Credit and Welfare-to-Work Tax Credit.

OMB Number: 1205-0371.

Burden Hours: (See Chart Below)

Requirement | Total respondents | Frequency | Annual response | Average response time | Annual burden hours
Form 9057 | 52 | Quarterly | 208 | 1:00 | 208
Form 9058 | 52 | Quarterly | 208 | 1:00 | 208
Form 9059 | 52 | Quarterly | 208 | 1:00 | 208
Employer/Job-seeker Complete Form 9061 | 770,000 | On occasion | 770,000 | .33 | 254,100
Form 9061 processed by SWAs | 52 | On occasion | 770,000 | .33 | 254,100
Form 9062 | 52 | On occasion | 40 | .33 | 13
Form 9063 | 52 | On occasion | 440,000 | .33 | 145,200
Form 9065 | 52 | Quarterly | 208 | 1:00 | 208
Recordkeeping | 52 | Annually | 52 | 931 | 48,412
Planning Guidance | 52 | One time | 52 | 8:00 | 416
Modification Planning Guidance | 52 | One time | 52 | 1:00 | 52
Total |  |  | 1,801,028 |  | 703,125

Total Burden Hours: 703,125.

Total Burden Cost (capital/startup): 0.

Total Burden Cost (operating/maintaining): 0.

Comments submitted in response to this notice will be summarized and/or included in the request for Office of Management and Budget approval of the information collection request, and they will also become a matter of public record.

Dated: Signed at Washington, DC, this 25th day of March, 2005.
Emily Stover DeRocco,
Assistant Secretary, Employment and Training.

[FR Doc. E5-1412 Filed 3-30-05; 8:45 am]

BILLING CODE 4510-30-P